DEPARTMENT OF HEALTH AND HUMAN SERVICES

National Institutes of Health

Center for Scientific Review; Cancellation of Meeting

Notice is hereby given of the cancellation of the Center for Scientific Review Special Emphasis Panel, March 1, 2019, 11:00 a.m. to March 1, 2019, 5:00 p.m., St. Gregory Hotel, 2033 M Street NW, Washington, DC 20036 which was published in the Federal Register on February 5, 2019, 84 FR 1766.

The meeting is cancelled.

Dated: February 15, 2019.
Melanie J. Pantoja,
Program Analyst, Office of Federal Advisory Committee Policy.

[FR Doc. 2019-03027 Filed 2-21-19; 8:45 am]

BILLING CODE 4140-01-P